DEPARTMENT OF HOMELAND SECURITY

Federal Emergency Management Agency

[Docket ID: FEMA-2009-0001]

Agency Information Collection Activities: Submission for OMB Review; Comment Request, OMB No. 1660—NEW; FEMA Preparedness Grants: Buffer Zone Protection Program (BZPP)

AGENCY: Federal Emergency Management Agency, DHS.

ACTION: Notice; 30-day notice and request for comments; new information collection; OMB No. 1660—NEW; FEMA Form 089-23, Buffer Zone Plan; FEMA Form 089-23A, Vulnerability Reduction Purchasing Plan.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before May 5, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: FEMA Preparedness Grants: Buffer Zone Protection Program (BZPP).

Type of information collection: New information collection.

OMB Number: 1660-NEW.

Form Titles and Numbers: FEMA Form 089-23, Buffer Zone Plan; FEMA Form 089-23A, Vulnerability Reduction Purchasing Plan.

Abstract: The information collection activity is the collection of financial and programmatic information from States and local governments pertaining to grant and cooperative agreement awards that include application, program narrative statement, grant award, performance information, outlay reports, property management, and closeout information. The information enables FEMA to evaluate applications and make award decisions, monitor ongoing performance and manage the flow of federal funds, and to appropriately close out grants or cooperative agreements. The Buffer Zone Plan (BZP) is a narrative plan that includes an assessment of possible infrastructure security risks and documents the degree to which security processes and procedures are in place, including planning to enhance and/or improve site security and the actions jurisdictions undertake in their BZP to protect against or prevent terrorist attacks at Critical Infrastructure and Key Resources (CIKR). The Vulnerability Reduction Purchasing Plan is a plan applicants prepare that corresponds to the Buffer Zone Plan and lists procurement items including equipment, information technology, and other resources such as training, that are needed to improve or enhance a jurisdiction's preventive or protective posture around CIKR sites identified in the BZP.

Affected Public: State, Local or Tribal Government.

Estimated Number of Respondents: 500 hours.

Frequency of Response: On occasion.

Estimated Average Hour Burden per Respondent: 16 hours.

Estimated Total Annual Burden Hours: 4,000 hours.

Estimated Cost: There is no annual reporting or recordkeeping costs associated with this collection.

Dated: March 25, 2010.
Larry Gray
Director, Records Management Division, Mission Support Bureau, Federal Emergency Management Agency, Department of Homeland Security.

[FR Doc. 2010-7558 Filed 4-2-10; 8:45 am]

BILLING CODE 9111-78-P